DEPARTMENT OF THE INTERIOR

National Park Service

[NPS-WASO-NAGPRA-13302; PPWOCRADN0-PCU00RP14.R50000]

Notice of Intent To Repatriate Cultural Items: Field Museum of Natural History, Chicago, IL; Correction

AGENCY: National Park Service, Interior.

ACTION: Notice; correction.

SUMMARY: The Field Museum of Natural History has corrected a Notice of Intent to Repatriate published in the Federal Register on August 24, 2007. This notice corrects the NAGPRA category that the Field Museum, in consultation with the appropriate Indian tribes, has determined the cultural items meet. Transfer of control of the cultural items in this correction notice has occurred.

ADDRESSES: Helen Robbins, Repatriation Director, Field Museum of Natural History, 1400 South Lake Shore Drive, Chicago, IL 60605, telephone (312) 665-7317, email hrobbins@fieldmuseum.org.

SUPPLEMENTARY INFORMATION: Notice is here given in accordance with the Native American Graves Protection and Repatriation Act (NAGPRA), 25 U.S.C. 3005, of a correction to the definition of cultural items previously under the control of the Field Museum of Natural History, Chicago, IL.

This notice is published as part of the National Park Service's administrative responsibilities under NAGPRA, 25 U.S.C. 3003(d)(3). The determinations in this notice are the sole responsibility of the museum, institution, or Federal agency that had control of the Native American cultural items. The National Park Service is not responsible for the determinations in this notice.

This notice corrects the NAGPRA category of the cultural items published in a Notice of Intent to Repatriate in the Federal Register on August 24, 2007 (72 FR 48672-48675). After the Notice of Intent to Repatriate was published, the Field Museum staff determined that the objects meet the NAGPRA definitions for sacred objects and objects of cultural patrimony. Transfer of control of the items in this correction notice has occurred.

Correction

In the Federal Register (72 FR 48672-48675), paragraph 1, sentence 1 is corrected by substituting the following sentence:

Notice is here given in accordance with the Native American Graves Protection and Repatriation Act (NAGPRA), 25 U.S.C. 3005, of the intent to repatriate cultural items in the possession of the Field Museum of Natural History (Field Museum), Chicago, IL, that meet the definition of sacred objects and objects of cultural patrimony under 25 U.S.C. 3001.

In the Federal Register (72 FR 48672-48675), paragraph 23, sentence 1 is corrected by substituting the following sentence:

Officials of the Field Museum of Natural History have determined that the 56 cultural items described in this notice are specific ceremonial objects needed by traditional Native American religious leaders for the practice of traditional Native American religions by their present-day adherents, and that the 56 cultural items described above have ongoing historical, traditional, or cultural importance central to the Native American group or culture itself, rather than property owned by an individual.

Additional Requestors and Disposition

Transfer of control of the cultural items in this notice occurred after the 30-day waiting period expired for the original Notice of Intent to Repatriate. For questions related to this notice, contact Helen Robbins, Repatriation Director, Field Museum of Natural History, 1400 South Lake Shore Drive, Chicago, IL 60605, telephone (312) 665-7317.

The Field Museum of Natural History is responsible for notifying the Apache Tribe of Oklahoma; Fort McDowell Yavapai Nation, Arizona; Fort Sill Apache Tribe of Oklahoma; Jicarilla Apache Nation, New Mexico; Mescalero Apache Tribe of the Mescalero Reservation, New Mexico; San Carlos Apache Tribe of the San Carlos Reservation, Arizona; Tonto Apache Tribe of Arizona; White Mountain Apache Tribe of the Fort Apache Reservation, Arizona; and the Yavapai-Apache Nation of the Camp Verde Indian Reservation, Arizona, that this notice has been published.

Dated: June 12, 2013.
Sherry Hutt,
Manager, National NAGPRA Program.

[FR Doc. 2013-19381 Filed 8-9-13; 8:45 am]

BILLING CODE 4312-50-P